NUCLEAR REGULATORY COMMISSION

[Docket Nos. 50-271 and 72-59; NRC-2021-0057; Docket Nos. 50-302 and 72-1035; NRC-2021-0061]

In the Matter of NorthStar Nuclear Decommissioning Company, LLC, NorthStar Vermont Yankee, LLC, ADP CR3, LLC, and Duke Energy Florida, LLC, Vermont Yankee Nuclear Power Station and Independent Spent Fuel Storage Installation, Crystal River Unit 3 Nuclear Generating Plant and Independent Spent Fuel Storage Installation

AGENCY: U.S. Nuclear Regulatory Commission.

ACTION: Indirect transfer of licenses; order.

SUMMARY: The U.S. Nuclear Regulatory Commission (NRC) is issuing an Order approving the application dated November 19, 2020, as supplemented by letter dated April 13, 2021, filed by NorthStar Nuclear Decommissioning Company, LLC (NNDC) and ADP CR3, LLC (ADP CR3), on behalf of themselves, NorthStar Vermont Yankee, LLC (NVY), and their corporate parents related to NorthStar Group Services, Inc (NorthStar). The application sought NRC consent to the indirect transfer of (1) NNDC's licensed authority under, and NVY's licensed ownership of, Renewed Facility Operating License No. DPR-28 for the Vermont Yankee Nuclear Power Station (Vermont Yankee) and the general license for the Vermont Yankee independent spent fuel storage installation (ISFSI); and (2) ADP CR3's licensed authority under Facility Operating License No. DPR-72 for the Crystal River Unit 3 Nuclear Generating Plant (CR3) and the general license for the CR3 ISFSI. Duke Energy Florida, LLC (DEF) will remain the licensed owner of CR3, and the application does not involve any direct or indirect transfer of DEF's license or responsibilities. No physical changes to the Vermont Yankee or CR3 facilities or operational changes were proposed in the application. The application requested NRC consent to these indirect transfers in order to complete an internal reorganization with new intermediary holding companies that would acquire control of NorthStar.

DATES: The order was issued on June 28, 2021, and is effective for 1 year.

ADDRESSES: Please refer to Docket ID NRC-2021-0057 for Vermont Yankee and Docket ID NRC-2021-0061 for CR3 when contacting the NRC about the availability of information regarding this document. You may obtain publicly available information related to this document using any of the following methods:

• Federal Rulemaking Website: Go to https://www.regulations.gov and search for Docket ID NRC-2021-0057 for Vermont Yankee and Docket ID NRC-2021-0061 for CR3. Address questions about Docket IDs in Regulations.gov to Stacy Schumann; telephone: 301-287-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The indirect license transfer order and the NRC staff safety evaluation supporting the order are available in ADAMS under ADAMS Package Accession No. ML21159A033.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Marlayna Vaaler Doell, Office of Nuclear Material Safety and Safeguards, U.S. Nuclear Regulatory Commission, Washington, DC 20555-0001; telephone: 301-415-3178; email: Marlayna.Doell@nrc.gov.

SUPPLEMENTARY INFORMATION: The text of the Order is attached.

Dated: June 29, 2021.
For the U.S. Nuclear Regulatory Commission.
Marlayna V. Doell,
Project Manager, Reactor Decommissioning Branch, Division of Decommissioning, Uranium Recovery, and Waste Programs, Office of Nuclear Material Safety and Safeguards.

Attachment—Order Approving Indirect Transfer of Licenses

United States of America

Nuclear Regulatory Commission

In the Matter of: NorthStar Nuclear Decommissioning Company, LLC, NorthStar Vermont Yankee, LLC, ADP CR3, LLC, and Duke Energy Florida, LLC, Vermont Yankee Nuclear Power Station and Independent Spent Fuel Storage Installation, Crystal River Unit 3 Nuclear Generating Plant and Independent Spent Fuel Storage Installation

Docket Nos. 50-271 and 72-59; License No. DPR-28; Docket Nos. 50-302 and 72-1035; License No. DPR-72

Order Approving Indirect Transfer of Licenses (EA-21-090)

I.

NorthStar Nuclear Decommissioning Company, LLC (NNDC) is the licensed operator and NorthStar Vermont Yankee, LLC (NVY) is the licensed owner of Renewed Facility Operating License No. DPR-28 for the Vermont Yankee Nuclear Power Station (Vermont Yankee), as well as the general license for the Vermont Yankee Independent Spent Fuel Storage Installation (ISFSI), to possess, maintain, and decommission Vermont Yankee and the Vermont Yankee ISFSI. Vermont Yankee is located in Windham County, Vermont.

ADP CR3, LLC (ADP CR3) is the licensed operator of Facility Operating License No. DPR-72 for the Crystal River Unit 3 Nuclear Generating Plant (CR3), as well as the general license for the CR3 ISFSI, to possess, maintain, and decommission CR3 and the CR3 ISFSI. Duke Energy Florida, LLC (DEF) is the licensed owner of CR3. CR3 is located in Citrus County, Florida.

II.

By application dated November 19, 2020 (Agencywide Documents Access and Management System (ADAMS) Accession No. ML20324A058), as supplemented by letter dated April 13, 2021 (ADAMS Accession No. ML21103A415), NNDC and ADP CR3, on behalf of themselves, NVY, and their corporate parents related to NorthStar Group Services, Inc. (NorthStar) (collectively, the Applicants), requested, pursuant to Title 10 of the Code of Federal Regulations (10 CFR) Sections 50.80 and 72.50, that the U.S. Nuclear Regulatory Commission (NRC, the Commission) consent to (1) the indirect transfer of control of NNDC's licensed authority under, and NVY's licensed ownership of, Renewed Facility Operating License No. DPR-28 for Vermont Yankee and the general license for the Vermont Yankee ISFSI; and (2) the indirect transfer of control of ADP CR3's licensed authority under Facility Operating License No. DPR-72 for CR3 and the general license for the CR3 ISFSI. DEF will remain the licensed owner of CR3, and the application does not involve any direct or indirect transfer of DEF's license or responsibilities. No physical changes to the Vermont Yankee or CR3 facilities or operational changes are proposed. The Applicants requested NRC consent to these indirect transfers in order to complete an internal reorganization with new intermediary holding companies that would acquire control of NorthStar. The current intermediary holding company structure and the proposed intermediary holding company structure are described in Figures 1 and 2, respectively.

BILLING CODE 7590-01-P

BILLING CODE 7590-01-C

Notices entitled “Vermont Yankee Nuclear Power Station; Consideration of Approval of Transfer of License” and “Crystal River Unit 3 Nuclear Generating Plant; Consideration of Approval of Transfer of License,” were published in the Federal Register (FR) on April 2, 2021 (86 FR 17415 and 86 FR 17412, respectively). The NRC did not receive any comments or hearing requests related to these notices.

Under 10 CFR 50.80 and 10 CFR 72.50, no license for a production or utilization facility or ISFSI, or any right thereunder, shall be transferred, either voluntarily or involuntarily, directly or indirectly, through transfer of control of the license to any person, unless the Commission gives its consent in writing. Upon review of the information in the application, and other information before the Commission, the NRC staff has determined that the Applicants can indirectly transfer their licenses via the intermediary holding company structure proposed in the application. The proposed transferees are qualified to have indirect control over the holders of the licenses and the indirect transfer of the licenses is otherwise consistent with applicable provisions of law, regulations, and orders issued by the Commission pursuant thereto.

The findings set forth above are supported by an NRC staff safety evaluation dated the same date as this Order, which is available at ADAMS Accession No. ML21159A042.

III.

Accordingly, pursuant to Sections 161b, 161i, and 184 of the Atomic Energy Act of 1954, as amended, 42 U.S.C. 2201(b), 2201(i), and 2234; and 10 CFR 50.80 and 10 CFR 72.50, it is hereby ordered that the application regarding the proposed indirect license transfers is approved for Vermont Yankee, CR3, and their respective ISFSIs.

It is further ordered that after receipt of all required regulatory approvals of the proposed indirect transfer action, the Applicants shall inform the Director of the NRC Office of Nuclear Material Safety and Safeguards in writing of such receipt, and of the date of the closing of the transfer, no later than two business days prior to the date of the closing of the transfer. Should the proposed indirect transfer not be completed within 1 year of the date of this Order, this Order shall become null and void, provided, however, upon written application and for good cause shown, such date may be extended by order.

This Order is effective upon issuance.

For further details with respect to this Order, see the indirect license transfer application dated November 19, 2020, the supplemental information dated April 13, 2021, and the NRC staff safety evaluation dated the same date as this Order, which are publicly available electronically through ADAMS in the NRC Library at https://www.nrc.gov/reading-rm/adams.html. Persons who encounter problems with ADAMS should contact the NRC's Public Document Room reference staff by telephone at 1-800-397-4209 or 301-415-4737 or by email to pdr.resource@nrc.gov.

Dated this 28th day of June, 2021.
For the Nuclear Regulatory Commission.
John W. Lubinski,
Director, Office of Nuclear Material, Safety, and Safeguards.

[FR Doc. 2021-14266 Filed 7-2-21; 8:45 am]

BILLING CODE 7590-01-P